DEPARTMENT OF ENERGY

Federal Energy Regulatory Commission

Combined Notice of Filings #1

Take notice that the Commission received the following electric rate filings:

Docket Numbers: ER10-2738-007.

Applicants: The Empire District Electric Company.

Description: Notice of Non-Material Change in Status of The Empire District Electric Company.

Filed Date: 11/20/20.

Accession Number: 20201120-5298.

Comments Due: 5 p.m. ET 12/11/20.

Docket Numbers: ER15-2028-007.

Applicants: Southwest Power Pool, Inc.

Description: Compliance filing: Compliance Filing in Response to Order issued in ER15-2028-005 (NIMECA) to be effective 10/1/2015.

Filed Date: 11/23/20.

Accession Number: 20201123-5015.

Comments Due: 5 p.m. ET 12/14/20.

Docket Numbers: ER15-2028-008.

Applicants: Southwest Power Pool, Inc.

Description: Compliance filing: Compliance Filing in Response to Order issued in ER15-2028-005 (NIMECA) to be effective 10/1/2015.

Filed Date: 11/23/20.

Accession Number: 20201123-5018.

Comments Due: 5 p.m. ET 12/14/20.

Docket Numbers: ER21-450-000.

Applicants: San Diego Gas & Electric.

Description: TO5 Formula Depreciation Rate Change For Common Plant and Electric General Plant of San Diego Gas & Electric Company.

Filed Date: 11/20/20.

Accession Number: 20201120-5290.

Comments Due: 5 p.m. ET 12/11/20.

Docket Numbers: ER21-451-000.

Applicants: New York Independent System Operator, Inc., Niagara Mohawk Power Corporation.

Description: § 205(d) Rate Filing: SGIA (SA 2573) between NYISO, National Grid, and Grissom Solar to be effective 11/9/2020.

Filed Date: 11/23/20.

Accession Number: 20201123-5004.

Comments Due: 5 p.m. ET 12/14/20.

Docket Numbers: ER21-452-000.

Applicants: New York Independent System Operator, Inc., Niagara Mohawk Power Corporation.

Description: § 205(d) Rate Filing: SGIA (SA 2574) among the NYISO, National Grid, and Regan Solar, LLC to be effective 11/9/2020.

Filed Date: 11/23/20.

Accession Number: 20201123-5006.

Comments Due: 5 p.m. ET 12/14/20.

Docket Numbers: ER21-453-000.

Applicants: Wisconsin Electric Power Company.

Description: Compliance filing: Compliance Filing to be effective 5/29/2019.

Filed Date: 11/23/20.

Accession Number: 20201123-5013.

Comments Due: 5 p.m. ET 12/14/20.

Docket Numbers: ER21-454-000.

Applicants: Southern California Edison Company.

Description: § 205(d) Rate Filing: TOT Revisions to Incorporate Letter Agreements to be effective 1/23/2021.

Filed Date: 11/23/20.

Accession Number: 20201123-5014.

Comments Due: 5 p.m. ET 12/14/20.

Docket Numbers: ER21-455-000.

Applicants: Southern California Edison Company.

Description: § 205(d) Rate Filing: WDAT Revisions to Incorporate Curtailment and Qualifying Facilities to be effective 1/23/2021.

Filed Date: 11/23/20.

Accession Number: 20201123-5030.

Comments Due: 5 p.m. ET 12/14/20.

Docket Numbers: ER21-456-000.

Applicants: Southern California Edison Company.

Description: § 205(d) Rate Filing: WDAT Revisions to Incorporate Letter Agreements to be effective 1/23/2021.

Filed Date: 11/23/20.

Accession Number: 20201123-5029.

Comments Due: 5 p.m. ET 12/14/20.

Docket Numbers: ER21-457-000.

Applicants: Southwest Power Pool, Inc.

Description: § 205(d) Rate Filing: 1636R24 Kansas Electric Power Cooperative, Inc. NITSA and NOA to be effective 2/1/2021.

Filed Date: 11/23/20.

Accession Number: 20201123-5049.

Comments Due: 5 p.m. ET 12/14/20.

Docket Numbers: ER21-458-000.

Applicants: Transource Oklahoma, LLC.

Description: § 205(d) Rate Filing: Transource Kansas LLC Notice of Succession to Transource Oklahoma LLC to be effective 11/24/2020.

Filed Date: 11/23/20.

Accession Number: 20201123-5070.

Comments Due: 5 p.m. ET 12/14/20.

Docket Numbers: ER21-459-000.

Applicants: Tri-State Generation and Transmission Association, Inc.

Description: Tariff Cancellation: Notice of Cancellation of Rate Schedule FERC Nos. 201 through 204 to be effective 8/31/2020.

Filed Date: 11/23/20.

Accession Number: 20201123-5078.

Comments Due: 5 p.m. ET 12/14/20.

Take notice that the Commission received the following qualifying facility filings:

Docket Numbers: QF19-1331-001.

Applicants: Clean Fuel Dane, LLC.

Description: Refund Report of Clean Fuel Dane, LLC.

Filed Date: 11/23/20.

Accession Number: 20201123-5074.

Comments Due: 5 p.m. ET 12/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2020.
Nathaniel J. Davis, Sr.,
Deputy Secretary.

[FR Doc. 2020-26308 Filed 11-27-20; 8:45 am]

BILLING CODE 6717-01-P